DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one individual and seven entities that have been placed on OFAC's Specially Designated Nationals and Blocked Persons List based on OFAC's determination that one or more applicable legal criteria were satisfied. All property and interests in property subject to U.S. jurisdiction of this person and these entities are blocked, and U.S. persons are generally prohibited from engaging in transactions with them.

DATES: See SUPPLEMENTARY INFORMATION section for applicable date.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action

On October 4, 2018, OFAC determined that the property and interests in property subject to U.S. jurisdiction of the following individual and entities are blocked under the relevant sanctions authority listed below.

Individual

1. AL-AMIN, Muhammad `Abdallah (a.k.a. AL AMEEN, Mohamed Abdullah; a.k.a. AL AMIN, Mohammad; a.k.a. AL AMIN, Muhammad Abdallah; a.k.a. AL AMIN, Muhammed; a.k.a. AL-AMIN, Mohamad; a.k.a. ALAMIN, Mohamed; a.k.a. AMINE, Mohamed Abdalla; a.k.a. EL AMINE, Muhammed), Yusif Mishkhas T: 3 Ibn Sina, Bayrut Marjayoun, Lebanon; Beirut, Lebanon; DOB 11 Jan 1975; POB El Mezraah, Beirut, Lebanon; nationality Lebanon; Additional Sanctions Information—Subject to Secondary Sanctions Pursuant to the Hizballah Financial Sanctions Regulations; Gender Male (individual) [SDGT] (Linked To: TABAJA, Adham Husayn).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of TABAJA, Adham Husayn, an individual determined to be subject to E.O. 13224.

Entities

1. IMPULSE INTERNATIONAL S.A.L. OFFSHORE (a.k.a. STATURA S.A.L. OFFSHORE), Unesco Center, 4th Floor, Office No. 19, Verdun, Beirut, Lebanon; Additional Sanctions Information—Subject to Secondary Sanctions Pursuant to the Hizballah Financial Sanctions Regulations; Commercial Registry Number 1801124 (Lebanon) [SDGT] (Linked To: AL-AMIN, Muhammad `Abdallah).

Designated pursuant to section 1(c) of Executive Order 13224 of September 23, 2001, “Blocking Property and Prohibiting Transactions With Persons Who Commit, Threaten to Commit, or Support Terrorism” (E.O. 13224) for being owned or controlled by AL-AMIN, Muhammad `Abdallah, an individual determined to be subject to E.O. 13224.

2. IMPULSE S.A.R.L., Floor 4, Unesco Center, Verdun, Beirut, Lebanon; Additional Sanctions Information—Subject to Secondary Sanctions Pursuant to the Hizballah Financial Sanctions Regulations; Commercial Registry Number 1003871 (Lebanon) [SDGT] (Linked To: AL-AMIN, Muhammad `Abdallah).

Designated pursuant to section 1(c) of Executive Order 13224 of September 23, 2001, “Blocking Property and Prohibiting Transactions With Persons Who Commit, Threaten to Commit, or Support Terrorism” (E.O. 13224) for being owned or controlled by AL-AMIN, Muhammad `Abdallah, an individual determined to be subject to E.O. 13224.

3. LAMA FOODS INTERNATIONAL OFFSHORE S.A.L. (a.k.a. LAMA FOOD INTERNATIONAL OFF SHORE S.A.L.; a.k.a. LAMA FOODS INTERNATIONAL S.A.R.L.), Unesco Center, 4th Floor, Office No. 19, Verdun, Beirut, Lebanon; Additional Sanctions Information—Subject to Secondary Sanctions Pursuant to the Hizballah Financial Sanctions Regulations; Commercial Registry Number 1012499 (Lebanon) [SDGT] (Linked To: AL-AMIN, Muhammad `Abdallah).

Designated pursuant to section 1(c) of Executive Order 13224 of September 23, 2001, “Blocking Property and Prohibiting Transactions With Persons Who Commit, Threaten to Commit, or Support Terrorism” (E.O. 13224) for being owned or controlled by AL-AMIN, Muhammad `Abdallah, an individual determined to be subject to E.O. 13224.

4. LAMA FOODS S.A.R.L., Airport Road, Dahieh Area, Cocodi sector, Beirut, Lebanon; Additional Sanctions Information—Subject to Secondary Sanctions Pursuant to the Hizballah Financial Sanctions Regulations; Commercial Registry Number 1005341 (Lebanon) [SDGT] (Linked To: AL-AMIN, Muhammad `Abdallah).

Designated pursuant to section 1(c) of Executive Order 13224 of September 23, 2001, “Blocking Property and Prohibiting Transactions With Persons Who Commit, Threaten to Commit, or Support Terrorism” (E.O. 13224) for being owned or controlled by AL-AMIN, Muhammad `Abdallah, an individual determined to be subject to E.O. 13224.

5. M. MARINE S.A.L. OFFSHORE, Unesco Center, 4th Floor, Office No. 19, Verdun, Beirut, Lebanon; Additional Sanctions Information—Subject to Secondary Sanctions Pursuant to the Hizballah Financial Sanctions Regulations; Commercial Registry Number 1804696 (Lebanon) [SDGT] (Linked To: AL-AMIN, Muhammad `Abdallah).

Designated pursuant to section 1(c) of Executive Order 13224 of September 23, 2001, “Blocking Property and Prohibiting Transactions With Persons Who Commit, Threaten to Commit, or Support Terrorism” (E.O. 13224) for being owned or controlled by AL-AMIN, Muhammad `Abdallah, an individual determined to be subject to E.O. 13224.

6. SIERRA GAS S.A.L. OFFSHORE (a.k.a. SIRRA GAS S.A.L. OFF SHORE), Unesco Center, 4th Floor, Office No. 19, Verdun, Beirut, Lebanon; Additional Sanctions Information—Subject to Secondary Sanctions Pursuant to the Hizballah Financial Sanctions Regulations; Commercial Registry Number 1804895 (Lebanon) [SDGT] (Linked To: AL-AMIN, Muhammad `Abdallah).

Designated pursuant to section 1(c) of Executive Order 13224 of September 23, 2001, “Blocking Property and Prohibiting Transactions With Persons Who Commit, Threaten to Commit, or Support Terrorism” (E.O. 13224) for being owned or controlled by AL-AMIN, Muhammad `Abdallah, an individual determined to be subject to E.O. 13224.

7. THAINGUI S.A.L. OFFSHORE (a.k.a. “SHANGHAI S.A.L. OFFSHORE COMPANY”), Unesco Center, 4th Floor, Beirut, Lebanon; Additional Sanctions Information—Subject to Secondary Sanctions Pursuant to the Hizballah Financial Sanctions Regulations; Commercial Registry Number 1804869 (Lebanon) [SDGT] (Linked To: AL-AMIN, Muhammad `Abdallah).

Designated pursuant to section 1(c) of Executive Order 13224 of September 23, 2001, “Blocking Property and Prohibiting Transactions With Persons Who Commit, Threaten to Commit, or Support Terrorism” (E.O. 13224) for being owned or controlled by AL-AMIN, Muhammad `Abdallah, an individual determined to be subject to E.O. 13224.

Dated: October 4, 2018.
Andrea Gacki,
Director, Office of Foreign Assets Control.

[FR Doc. 2018-21979 Filed 11-14-18; 8:45 am]

BILLING CODE 4810-AL-P